DEPARTMENT OF TRANSPORTATION

Federal Aviation Administration

[Docket No.: FAA-2024-2186; Summary Notice No. 2024-41]

Petition for Exemption; Summary of Petition Received; Southwest Airlines

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before October 23, 2024.

ADDRESSES: Send comments identified by docket number FAA-2024-2186 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Shannon Uplinger, 202-267-6107, Office of Rulemaking, Federal Aviation Administration, 800 Independence Avenue SW, Washington, DC 20591.

This notice is published pursuant to 14 CFR 11.85.

Dan Ngo,
Manager, Part 11 Petitions Branch, Office of Rulemaking.

Petition for Exemption

Docket No.: FAA-2024-2186.

Petitioner: Southwest Airlines.

Sections of 14 CFR Affected: §§ 45.11(b) and 45.13.

Description of Relief Sought: Southwest Airlines (Southwest) requests relief from 14 CFR 45.11(b) and 45.13 when a CFM56-7B24, CFM56-7B27 or LEAP-1B28 series engine is found to be operating under 14 CFR part 121 revenue service with a missing engine data plate. Southwest proposes that it should be permitted to manage a missing engine data plate as a Category D repair on its minimum equipment list and correct the condition within 120 calendar days excluding the day of discovery. However, if the engine OEM is unable to supply a new data plate within 120 calendar days, this condition must be corrected at the next convenient maintenance opportunity, but no later than the next engine removal from service for shop maintenance.

[FR Doc. 2024-22869 Filed 10-2-24; 8:45 am]

BILLING CODE 4910-13-P